DEPARTMENT OF COMMERCE

National Oceanic and Atmospheric Administration

[RTID 0648-XB759]

Endangered and Threatened Species; Initiation of a 5-Year Review for North Atlantic Right Whale

AGENCY: National Marine Fisheries Service (NMFS), National Oceanic and Atmospheric Administration (NOAA), Commerce.

ACTION: Notice of initiation of 5-year review; request for information.

SUMMARY: NMFS announces its intent to conduct a 5-year review of the North Atlantic right whale (Eubalaena glacialis). NMFS is required by the Endangered Species Act to conduct 5-year reviews to ensure that listing classifications of species are accurate. The 5-year review must be based on the best scientific and commercial data available at the time of the review. We request submission of any such information on the North Atlantic right whale, particularly information on its status, threats, and recovery, that has become available since its last 5-year review in 2017.

DATES: To allow us adequate time to conduct this review, we must receive your information no later than May 4, 2022. However, we will continue to accept new information about any listed species at any time.

ADDRESSES: Submit your information, identified by docket number NOAA-NMFS-2022-0004, by the following method:

• Federal e-Rulemaking Portal: Go to www.regulations.gov. In the Search box, enter the above docket number for this notice. Then, click on the Search icon. On the resulting web page, click the “Comment Now!” icon, complete the required fields, and enter or attach your comments.

Instructions: NMFS may not consider comments if they are sent by any other method, to any other address or individual, or received after the comment period ends. All comments received are a part of the public record and NMFS will post the comments for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Diane Borggaard, Greater Atlantic Region Right Whale Recovery Coordinator, 978-282-8453, diane.borggaard@noaa.gov.

SUPPLEMENTARY INFORMATION: Section 4(c)(2)(A) of the Endangered Species Act (ESA) requires that we conduct a review of listed species at least once every 5 years. The regulations in 50 CFR 424.21 require that we publish a notice in the Federal Register announcing species currently under active review. On the basis of such reviews, under section 4(c)(2)(B) we determine whether a listed species should be delisted, or reclassified from endangered to threatened or from threatened to endangered (16 U.S.C. 1533(c)(2)(B)). As described by the regulations in 50 CFR 424.11(e), the Secretary shall delist a species if the Secretary finds that, after conducting a status review based on the best scientific and commercial data available: (1) The species is extinct; (2) the species does not meet the definition of an endangered species or a threatened species; or (3) the listed entity does not meet the statutory definition of a species. Any change in Federal classification would require a separate rulemaking process.

The North Atlantic right whale has been listed as endangered under the ESA since it was enacted in 1973 (35 FR 18319, December 2, 1970; 73 FR 12024, March 6, 2008). The last North Atlantic right whale 5-year review is available on the NMFS website at: fisheries.noaa.gov/resource/document/5-year-review-north-atlantic-right-whale-eubalaena-glacialis. Additional background information on the North Atlantic right whale is also available on the website at: fisheries.noaa.gov/species/north-atlantic-right-whale.

Determining if a Species Is Threatened or Endangered

Section 4(a)(1) of the ESA requires that we determine whether a species is endangered or threatened based on one or more of the five following factors: (1) The present or threatened destruction, modification, or curtailment of its habitat or range; (2) overutilization for commercial, recreational, scientific, or educational purposes; (3) disease or predation; (4) the inadequacy of existing regulatory mechanisms; or (5) other natural or manmade factors affecting its continued existence. Section 4(b) also requires that our determination be made on the basis of the best scientific and commercial data available after conducting a review of the status of the species and after taking into account those efforts, if any, being made by any State or foreign nation to protect such species.

Public Solicitation of New Relevant Information

To ensure that the 5-year review is complete and based on the best scientific and commercial data available, we are soliciting new information from the public, governmental agencies, Tribes, the scientific community, industry, environmental entities, and any other interested parties concerning the status of the listed North Atlantic right whale. Categories of requested information include: (1) Species biology including, but not limited to, population trends, distribution, abundance, demographics, and genetics; (2) habitat conditions including, but not limited to, amount, distribution, and important features for conservation; (3) status and trends of threats to the species and its habitats; (4) conservation measures that have been implemented that benefit the species, including monitoring data demonstrating effectiveness of such measures; (5) need for additional conservation measures; and (6) other new information, data, or corrections including, but not limited to, taxonomic or nomenclatural changes and improved analytical methods for evaluating extinction risk.

If you wish to provide information for this review, you may submit your information and materials electronically (see ADDRESSES section). We request that all information be accompanied by supporting documentation such as maps, bibliographic references, or reprints of pertinent publications. We also would appreciate the submitter's name, address, and any association, institution, or business that the person represents; however, anonymous submissions will also be accepted.

(Authority: 16 U.S.C. 1531 et seq.)

Dated: January 28, 2022.
Angela Somma,
Chief, Endangered Species Conservation Division, Office of Protected Resources, National Marine Fisheries Service.

[FR Doc. 2022-02187 Filed 2-2-22; 8:45 am]

BILLING CODE 3510-22-P